DEPARTMENT OF TRANSPORTATION

Federal Aviation Administration

Sixteenth Meeting: NextGen Advisory Committee (NAC)

AGENCY: Federal Aviation Administration (FAA), U.S. Department of Transportation (DOT).

ACTION: Notice of Sixteenth NextGen Advisory committee meeting.

SUMMARY: The FAA is issuing this notice to advise the public of the sixteenth NextGen Advisory Committee meeting.

DATES: The meeting will be held October 8th from 9:00 a.m.-3:00 p.m.

ADDRESSES: The meeting will be held at FedEx Express Headquarters, 3855 Airways Boulevard, Module D, 3rd Floor, Memphis, TN 38116, Tel: (202) 330-0652.

FOR FURTHER INFORMATION CONTACT: The RTCA Secretariat, 1150 18th Street NW., Suite 910, Washington, DC 20036, or by telephone at (202) 833-9339, fax at (202) 833-9434, or Web site at http://www.rtca.org or Andy Cebula, NAC Secretary, RTCA, Inc., acebula@rtca.org, (202) 330-0652.

SUPPLEMENTARY INFORMATION: Pursuant to section 10(a)(2) of the Federal Advisory Committee Act (Pub. L. 92-463, 5 U.S.C., App.), notice is hereby given for a meeting of the NextGen Advisory Committee. The agenda will include the following:

Thursday, October 8, 2015

1. Opening of Meeting/Introduction of NAC Members—Chairman Richard Anderson, Chief Executive Officer, Delta Air Lines, Inc.

2. Official Statement of Designated Federal Official—The Honorable Mike Whitaker, FAA Deputy Administrator

3. Review and Approval of June 5, 2015 Meeting Summary

4. Chairman's Report—Chairman Anderson

5. FAA Report—Mr. Whitaker

6. NextGen Integration Working Group (NIWG) Reports & Discussion—DataComm, Multiple Runway Operations, Performance Based Navigation, Surface

7. Metrics: Measuring Effects of Implementations—Overview of Reporting Process; FAA Actions on Performance Reporting; Industry Performance Tracking-vendor presentation

8. ADS-B—Status of implementation; Spaced based deployment, oceanic surveillance, common weather picture

9. Performance Based Navigation (PBN) National Airspace System Navigation Strategy

10. NextGen Plan

11. Summary of meeting and next steps—DFO and NAC Chairman Closing Comments

12. Other business

13. Adjourn

Attendance is open to the interested public but limited to space availability. With the approval of the chairman, members of the public may present oral statements at the meeting. Persons wishing to present statements or obtain information should contact the person listed in the FOR FURTHER INFORMATION CONTACT section. Contact Betty Reschenberg at (901) 224-5470 or bareschenberg@fedex.com to register. In order for US Citizens to pre-register, please provide your first and last name (as it appears on your state Driver's License or Identification); employer's name and address; and phone number. In order to Non-US Citizens to pre-register, please provide your full name (as it appears on your passport); country of citizenship; passport and Visa numbers, type and expiration date; employer name and address; and phone number. Members of the public may present a written statement to the committee at any time.

Issued in Washington, DC, on September 10, 2015.
Latasha Robinson,
Management & Program Analyst, Next Generation, Enterprise Support Services Division, Federal Aviation Administration.

[FR Doc. 2015-23071 Filed 9-11-15; 8:45 am]

BILLING CODE 4910-13-P